DEPARTMENT OF HOMELAND SECURITY

Coast Guard

33 CFR Part 117

[Docket No. USCG-2017-0778]

Drawbridge Operation Regulation; Atlantic Intracoastal Waterway, Indian River, Titusville, FL

AGENCY: Coast Guard, DHS.

ACTION: Notice of deviation from drawbridge regulation.

SUMMARY: The Coast Guard has issued a temporary deviation from the operating schedule that governs the NASA Railroad Bridge (Jay Jay Bridge) across the Atlantic Intracoastal Waterway (Indian River), mile 876.6, Titusville, Florida. The deviation is necessary to allow the bridge owner, National Aeronautics and Space Administration (NASA) to repair the bridge. Due to the type of repairs this bridge will be required to remain closed to navigation periodically throughout the day. This deviation is deemed necessary for the continued safe operation of the bridge.

DATES: This deviation is effective without actual notice from August 22, 2017 through 4 p.m. on September 26, 2017. For the purposes of enforcement, actual notice will be used from August 17, 2017 at 8 a.m. until August 22, 2017.

ADDRESSES: The docket for this deviation, USCG-2017-0778 is available at http://www.regulations.gov. Type the docket number in the “SEARCH” box and click “SEARCH”. Click on Open Docket Folder on the line associated with this deviation.

FOR FURTHER INFORMATION CONTACT: If you have questions on this temporary deviation, call or email LT Allan Storm, U.S. Coast Guard Sector Jacksonville, Waterways Management Division; telephone 904-714-7557, email Allan.H.Storm@uscg.mil.

SUPPLEMENTARY INFORMATION: NASA requested a temporary deviation from the operating schedule that governs the NASA Railroad Bridge (Jay Jay Bridge), Atlantic Intracoastal Waterway (Indian River), mile 876.6, Titusville, Florida. The bridge is a single leaf bascule railroad bridge with a seven foot vertical clearance in the closed position. The normal operating schedule for the bridge is found in 33 CFR 117.261(j).

The deviation period is from 8 a.m. on August 17, 2017 to 4 p.m. on September 26, 2017. During this period, the bridge is allowed to remain closed to navigation from 8 a.m. to noon and from 1 p.m. to 4 p.m., Monday through Friday.

Vessels able to pass through the bridge in the closed position may do so at any time. The bridge will be able to open for emergencies and there is no immediate alternate route for vessels to pass. The Coast Guard will also inform the users of the waterways through our Local and Broadcast Notices to Mariners of the change in operating schedule for the bridge so that vessel operators can arrange their transits to minimize any impact caused by the temporary deviation.

In accordance with 33 CFR 117.35(e), the drawbridge must return to its regular operating schedule immediately at the end of the effective period of this temporary deviation. This deviation from the operating regulations is authorized under 33 CFR 117.35.

Dated: August 17, 2017.
Barry L. Dragon,
Director, Bridge Branch, Seventh Coast Guard District.

[FR Doc. 2017-17707 Filed 8-21-17; 8:45 am]

BILLING CODE 9110-04-P